DEPARTMENT OF THE TREASURY

Office of Foreign Assets Control

Sanctions Actions Pursuant to the Zimbabwe Sanctions Regulations

SUB-AGENCY: Office of Foreign Assets Control, Treasury.

ACTION: Notice.

SUMMARY: The Treasury Department's Office of Foreign Assets Control (OFAC) is publishing the names of two entities whose property and interests in property are blocked pursuant to the Zimbabwe Sanctions Regulations.

DATES: OFAC's actions described in this notice were effective on March 8, 2016, as further specified below.

FOR FURTHER INFORMATION CONTACT: The Department of the Treasury's Office of Foreign Assets Control: Assistant Director for Licensing, tel.: 202-622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

The Specially Designated Nationals and Blocked Persons List and additional information concerning OFAC sanctions programs are available on OFAC's Web site (www.treasury.gov/ofac). Certain general information pertaining to OFAC's sanctions programs is also available via facsimile through a 24-hour fax-on-demand service, tel.: 202/622-0077.

Notice of OFAC Actions

On March 8, 2016, OFAC added the following two entities to the list of Specially Designated Nationals and Blocked Persons, pursuant to the Zimbabwe Sanctions Regulations.

Entities

1. CHEMPLEX CORPORATION LIMITED (a.k.a. CHEMPLEX CORPORATION LTD), 93 Park Lane, P.O. Box 989, Harare, Zimbabwe; 10 Bilston Street, Bulawayo, Zimbabwe; 35 Coventry Road, Harare, Zimbabwe [ZIMBABWE] (Linked To: INDUSTRIAL DEVELOPMENT CORPORATION OF ZIMBABWE LTD).

2. ZIMBABWE FERTILISER COMPANY (a.k.a. ZFC LIMITED), 35 Coventry Road, Workington, Harare, Zimbabwe; Ambleside Road, Aspindale Park, Harare, Zimbabwe; Sable Chemicals Complex, Lot1/7, Sherwood Block, Kwekwe, Zimbabwe [ZIMBABWE] (Linked To: CHEMPLEX CORPORATION LIMITED).

Dated: March 8, 2016.
John E. Smith,
Acting Director, Office of Foreign Assets Control.

[FR Doc. 2016-05523 Filed 3-10-16; 8:45 am]

BILLING CODE 4810-AL-P